DEPARTMENT OF COMMERCE

Foreign-Trade Zones Board

[B-78-2013]

Foreign-Trade Zone (FTZ) 141—Rochester, New York, Termination of Review of Notification of Proposed Production Activity American Tactical Imports (Deconstruction of Firearms), Rochester, New York

Upon request by the County of Monroe, grantee of FTZ 141, the FTZ Board staff has terminated review of a notification of proposed production activity on behalf of American Tactical Imports within a now-expired site of FTZ 141 in Rochester, New York. The notification was received on July 29, 2013 (78 FR 50375-50376, 8/19/2013). The termination is the result of changed circumstances, and the case has been closed without prejudice.

Dated: November 19, 2015.
Andrew McGilvray,
Executive Secretary.

[FR Doc. 2015-30066 Filed 11-24-15; 8:45 am]

BILLING CODE 3510-DS-P